NUCLEAR REGULATORY COMMISSION

[NRC-2011-0175]

Biweekly Notice; Applications and Amendments to Facility Operating Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 14, 2011, to July 27, 2011. The last biweekly notice was published on July 26, 2011 (76 FR 44614).

ADDRESSES: Please include Docket ID NRC-2011-0175 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods:

• Federal Rulemaking Web site: Go to http://www.regulations.gov and search for documents filed under Docket ID NRC-2011-0175. Address questions about NRC dockets to Carol Gallagher 301-492-3668; e-mail Carol.Gallagher@nrc.gov.

• Mail comments to: Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are accessible electronically through ADAMS in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web site: Public comments and supporting materials related to this notice can be found at http://www.regulations.gov by searching on Docket ID: NRC-2011-0175.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's ”Rules of Practice for Domestic Licensing Proceedings” in 10 CFR part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by e-mail at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by e-mail to pdr.resource@nrc.gov.

Exelon Generation Company, LLC, Docket Nos. 50-352 and 50-353, Limerick Generating Station, Units 1 and 2, Montgomery County, Pennsylvania

Date of amendment request: April 6, 2011.

Description of amendment request: The proposed amendment would modify the actions to be taken when the containment atmosphere gaseous radioactivity monitoring system and the primary containment pressure and temperature monitoring system are the only operable reactor coolant leakage detection monitoring systems. The modified actions require additional, more frequent monitoring of other indications of Reactor Coolant System (RCS) leakage and provide appropriate time to restore another monitoring system to operable status. This change is consistent with the U.S. Nuclear Regulatory Commission (NRC) approved safety evaluation on Technical Specification Task Force (TSTF) Traveler, TSTF-514-A, Revision 3, “Revise BWR [Boiling Water Reactor] Operability Requirements and Actions for RCS Leakage Instrumentation,” dated November 24, 2010.

Basis for proposed no significant hazards consideration determination: As required by 10 CFR 50.91(a), the licensee has provided its analysis of the issue of no significant hazards consideration, which is presented below, with NRC edits in brackets:

1. Does the proposed amendment involve a significant increase in the probability or consequences of an accident previously evaluated?

Response: No

The proposed changes [ ] modify the time allowed for the plant to operate when the only operable RCS leakage detection instrumentation monitors are the containment atmosphere gaseous radioactivity monitoring system and the primary containment pressure and temperature monitoring system. The monitoring of RCS leakage is not a precursor to any accident previously evaluated. The monitoring of RCS leakage is not a direct method used to mitigate the consequences of any accident previously evaluated. [The RCS leakage detection instruments are used to detect a degradation of the RCS pressure boundary and are used to determine the need to initiate mitigative actions.] Therefore, the proposed amendment does not involve a significant increase in the probability or consequences of an accident previously evaluated.

The proposed changes also renumber [certain] current TS Actions to accommodate the new TS Action. This change is administrative in nature and does not involve a significant increase in the probability or consequences of an accident previously evaluated.

2. Does the proposed change create the possibility of a new or different kind of accident from any accident previously evaluated?

Response: No.

The proposed changes [ ] modify the time allowed for the plant to operate when the only operable RCS leakage detection instrumentation monitor monitors are the containment atmosphere gaseous radioactivity monitoring system and the primary containment pressure and temperature monitoring system. The proposed changes do not involve a physical alteration of the plant (no new or different type of equipment will be installed) or a change in the methods governing normal plant operation.

Therefore, the proposed amendment does not create the possibility of a new or different kind of accident from any accident previously evaluated. The proposed changes also renumber [certain] current TS Actions to accommodate the new TS Action. This change is administrative in nature and does not create the possibility of a new or different kind of accident from any accident previously evaluated.

3. Does the proposed change involve a significant reduction in a margin of safety?

Response: No.

The proposed changes [ ] increase the time allowed for the drywell floor drain sump flow monitoring system and the drywell unit coolers condensate flow rate monitoring system to be inoperable concurrently from 12 hours to 7 days. Increasing the amount of time the plant is allowed to operate with these two leakage detection monitors inoperable does not significantly decrease the margin of safety due to the addition of compensatory actions to analyze grab samples of the primary containment atmosphere once per 12 hours and monitor RCS leakage by administrative means once per 12 hours. The overall likelihood that an increase in RCS leakage will be detected before it potentially results in gross failure is maintained with the addition of the actions. Therefore, the proposed amendment does not involve a significant reduction in a margin of safety.

The proposed changes also renumber [certain] current TS Actions to accommodate the new TS Action. This change is administrative in nature and does not involve a significant reduction in a margin of safety. Therefore, the proposed change does not involve a significant reduction in a margin of safety.

The NRC staff has reviewed the licensee's analysis and, based on this review, including the edits in brackets above, it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

Exelon Generation Company, LLC, Docket Nos. 50-352 and 50-353, Limerick Generating Station, Units 1 and 2, Montgomery County, Pennsylvania

Date of amendment request: June 2, 2011.

Description of amendment request: The proposed change would revise the Technical Specifications for each unit by changing the method of calculating core reactivity for the purpose of performing the reactivity anomaly surveillance at Limerick Generating Station, Units 1 and 2. The proposed change would allow performance of the surveillance based on a comparison of predicted to actual (or monitored) core reactivity. The reactivity anomaly verification is currently determined by a comparison of predicted versus actual control rod density.

Basis for proposed no significant hazards consideration determination: As required by 10 CFR 50.91(a), the licensee has provided its analysis of the issue of no significant hazards consideration, which is presented below, with NRC edits in brackets:

1. Does the proposed amendment involve a significant increase in the probability or consequences of an accident previously evaluated?

Response: No

The proposed Technical Specifications changes do not affect any plant systems, structures, or components designed for the prevention or mitigation of previously evaluated accidents. The amendment would only change how the reactivity anomaly surveillance is performed. Verifying that the core reactivity is consistent with predicted values ensures that accident and transient safety analyses remain valid. This amendment changes the Technical Specification requirements such that, rather than performing the surveillance by comparing predicted to actual control rod density, the surveillance is performed by a direct comparison of [effective multiplication factor] keff. Present day on-line core monitoring systems, such as the one in use at Limerick Generating Station (LGS), Units 1 and 2 are capable of performing the direct measurement of reactivity.

Therefore, since the reactivity anomaly surveillance will continue to be performed by a viable method, the proposed amendment does not involve a significant increase in the probability or consequence of a previously evaluated accident.

2. Does the proposed amendment create the possibility of a new or different kind of accident from any accident previously evaluated?

Response: No.

This Technical Specifications amendment request does not involve any changes to the operation [ ] or maintenance of any safety-related, or otherwise important to safety systems. All systems important to safety will continue to be operated and maintained within their design bases. The proposed changes to the reactivity anomaly Technical Specifications will only provide a new, more efficient method of detecting an unexpected change in core reactivity.

Since all systems continue to be operated within their design bases, no new failure modes are introduced and the possibility of a new or different kind of accident is not created.

3. Does the proposed amendment involve a significant reduction in a margin of safety?

Response: No.

This proposed Technical Specifications amendment proposes to change the method for performing the reactivity anomaly surveillance from a comparison of predicted to actual control rod density to a comparison of predicted to actual keff. The direct comparison of keff provides a technically superior method of calculating any differences in the expected core reactivity. The reactivity anomaly surveillance will continue to be performed at the same frequency as is currently required by the Technical Specifications, only the method of performing the surveillance will be changed. Consequently, core reactivity assumptions made in safety analyses will continue to be adequately verified.

Therefore, the proposed amendment does not involve a significant reduction in a margin of safety.

The NRC staff has reviewed the licensee's analysis and, based on this review it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

Exelon Generation Company, LLC, Docket Nos. 50-352 and 50-353, Limerick Generating Station, Units 1 and 2, Montgomery County, Pennsylvania

Date of amendment request: June 14, 2011.

Description of amendment request: The proposed change would revise the Technical Specification (TS) 3.4.3.1, “LEAKAGE DETECTION SYSTEMS,” to support the addition of an alternative method of verifying that unidentified leakage in the drywell is within limits. The proposed alternate method uses the installed drywell equipment drain sump (DWEDS) monitoring system, with the drywell floor drain sump (DWFDS) overflowing to the DWEDS, to verify that Reactor Coolant System leakage in the drywell is within limits. This configuration would only be used when the DWFDS monitoring system is unavailable.

Basis for proposed no significant hazards consideration determination: As required by 10 CFR 50.91(a), the licensee has provided its analysis of the issue of no significant hazards consideration, which is presented below:

1. Does the proposed change involve a significant increase in the probability or consequences of an accident previously evaluated?

Response: No.

The proposed change does not involve physical changes to any plant structure, system, or component. As a result, no new failure modes of the Reactor Coolant System (RCS) leakage detection systems are being introduced. Additionally, the RCS leakage detection systems have no impact on any initiating event frequency.

The consequences of a previously analyzed accident are dependent on the initial conditions assumed for the analysis, the behavior of the fuel during the analyzed accident, the availability and successful functioning of the equipment assumed to operate in response to the analyzed event, and the setpoints at which these actions are initiated. The RCS leakage detection systems do not perform an accident mitigating function. Emergency Core Cooling System, Reactor Protection System, and primary and secondary containment isolation actuations are not affected by the proposed change. The proposed change has no impact on any setpoints or functions related to these actuations. There are no changes in the types or significant increase in the amounts of any effluents released offsite.

Therefore, the proposed change does not involve a significant increase in the probability or consequences of an accident previously evaluated.

2. Does the proposed change create the possibility of a new or different kind of accident from any accident previously evaluated?

Response: No.

The proposed change allows use of the drywell equipment drain system as an alternative method of quantifying unidentified leakage in the drywell. The drywell equipment drain system will continue to be used for leakage collection and quantification. There is no alteration to the parameters within which the plant is normally operated or in the setpoints that initiate protective or mitigative actions. As a result, no new failure modes are being introduced.

Therefore, the proposed change does not create the possibility of a new or different kind of accident from any accident previously evaluated.

3. Does the proposed change involve a significant reduction in a margin of safety?

Response: No.

The current TS require a periodic measurement of RCS leakage. The proposed change maintains the existing level of safety by allowing use of the drywell equipment drain sump system to quantify unidentified leakage in the drywell. No changes are being made to any of the RCS leakage limits specified in the TS. The impact of the change is that measured unidentified and identified leakage within the drywell will be quantified as equivalent values since the drywell equipment drain sump monitoring system will also be used to measure leakage into the drywell floor drain sump. In addition, the alternative method conservatively assumes that all leakage in the drywell is unidentified leakage.

Therefore, the proposed change does not involve a significant reduction in a margin of safety.

The NRC staff has reviewed the licensee's analysis and, based on this review it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

NextEra Energy Seabrook, LLC, Docket No. 50-443, Seabrook Station, Unit 1, Rockingham County, New Hampshire

Date of amendment request: April 21, 2011.

Description of amendment request: The proposed change would revise operability requirements for the leakage detection systems, eliminate redundant Technical Specification (TS) requirements, and revise the TS actions to include conditions and required actions for inoperable leakage detection systems similar to those in NUREG 1431, “Standard Technical Specifications—Westinghouse Plants.” The proposed amendment would also incorporate the requirements of TSTF-513, Revision 3, “Revise [Pressurized Water Reactor] Operability Requirements and Actions for [Reactor Coolant System] Leakage Instrumentation.”

Basis for proposed no significant hazards consideration (NSHC) determination: As required by 10 CFR 50.91(a), the licensee has provided its analysis of the issue of NSHC, which is presented below, with NRC edits shown in square brackets:

1. The proposed change does not involve a significant increase in the probability or consequences of an accident previously evaluated.

The proposed change does not impact the physical function of plant structures, systems, or components (SSCs) or the manner in which SSCs perform their design function. The proposed change neither adversely affects accident initiators or precursors, nor alters design assumptions. The proposed change does not alter or prevent the ability of operable SSCs to perform their design function to mitigate the consequences of an initiating event within assumed acceptance limits. The [reactor coolant system (RCS)] leakage detection instruments are not used in [the] mitigation of any accidents. [The RCS leakage detection instruments are used to detect a degradation of the RCS pressure boundary and are used to determine the need to initiate mitigative actions].

Therefore, the proposed change does not involve a significant increase in the probability or consequences of an accident previously evaluated.

2. The proposed change does not create the possibility of a new or different kind of accident from any accident previously evaluated.

The proposed change will not impact the accident analysis. The change does not involve a physical alteration of the plant (i.e., no new or different type of equipment will be installed), a significant change in the method of plant operation, or new operator actions [to mitigate an accident]. The proposed change will not introduce failure modes that could result in a new accident. The change does not alter assumptions made in the safety analysis.

Therefore, the proposed change does not create the possibility of a new or different kind of accident from any accident previously evaluated.

3. The proposed changes do not involve a significant reduction in the margin of safety.

Margin of safety is associated with confidence in the ability of the fission product barriers (i.e., fuel cladding, reactor coolant system pressure boundary, and containment structure) to limit the level of radiation dose to the public. The proposed change does not involve a significant change in the method of plant operation, and no accident analyses will be affected by the proposed changes. Additionally, the proposed changes will not relax any criteria used to establish safety limits and will not relax any safety system settings. The safety analysis acceptance criteria are not affected by this change. The proposed change will not result in plant operation in a configuration outside the design basis. The proposed change does not adversely affect systems that respond to safely shutdown the plant and to maintain the plant in a safe shutdown condition.

Therefore, these proposed changes do not involve a significant reduction in a margin of safety.

The NRC staff has reviewed the licensee's analysis and, based on this review, it appears that the three standards of 50.92(c) are satisfied. Therefore, the NRC staff proposes to determine that the amendment request involves NSHC.

Attorney for licensee: M.S. Ross, Florida Power & Light Company, P.O. Box 14000, Juno Beach, FL 33408-0420.

NRC Branch Chief: Harold K. Chernoff.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-800-397-4209, 301-415-4737 or by e-mail to pdr.resource@nrc.gov.

Arizona Public Service Company, et al., Docket Nos. STN 50-528, STN 50-529, and STN 50-530, Palo Verde Nuclear Generating Station, Unit 1, 2, and 3, Maricopa County, Arizona

Date of application for amendment: July 22, 2010, as supplemented by letters dated September 29 and November 30, 2010, and January 20, March 31, and June 29, 2011.

Brief description of amendment: The amendments approved the cyber security plan and associated implementation schedule, and revise Paragraph 2.E of Facility Operating License Nos. NPF-41, NPF-51, and NPF-74, respectively, to provide a license condition to require the licensee to fully implement and maintain in effect all provisions of the NRC-approved Cyber Security Plan. The proposed change is consistent with Nuclear Energy Institute (NEI) 08-09, Revision 6, “Cyber Security Plan for Nuclear Power Reactors.”

Date of issuance: July 26, 2011.

Effective date: This license amendment is effective as of the date of its issuance. The implementation of the cyber security plan (CSP), including the key intermediate milestone dates and the full implementation date, shall be in accordance with the implementation schedule submitted by the licensee on March 31, 2011, and approved by the NRC staff with this license amendment. All subsequent changes to the NRC-approved CSP implementation schedule will require prior NRC approval pursuant to 10 CFR 50.90.

Amendment No.: Unit 1—185; Unit 2—185; Unit 3—185.

Renewed Facility Operating License Nos. NPF-41, NPF-51, and NPF-74: The amendment revised the Operating Licenses.

Date of initial notice in Federal Register: November 9, 2010 (75 FR 68833). The supplemental letters dated September 29 and November 30, 2010, and January 20, March 31, and June 29, 2011, provided additional information that clarified the application, did not expand the scope of the application as originally noticed, and did not change the staff's original proposed no significant hazards consideration determination as published in the Federal Register.

The Commission's related evaluation of the amendments is contained in a Safety Evaluation dated July 26, 2011.

No significant hazards consideration comments received: No.

Duke Energy Carolinas, LLC, Docket Nos. 50-269, 50-270, and 50-287, Oconee Nuclear Station, Units 1, 2, and 3, Oconee County, South Carolina

Date of application of amendments: October 19, 2009, as supplemented November 15, 2010.

Brief description of amendments: The amendments revised the Technical Specifications to allow the use of gadolinia as an integral burnable absorber in the uranium oxide fuel matrix.

Date of Issuance: July 21, 2011.

Effective date: As of the date of issuance and shall be implemented within 30 days from the date of issuance.

Amendment Nos.: 374, 376, and 375.

Renewed Facility Operating License Nos. DPR-38, DPR-47, and DPR-55: Amendments revised the licenses and the technical specifications.

Date of initial notice in Federal Register: March 16, 2010 (75 FR 12576).

The supplement dated November 15, 2010, provided additional information that clarified the application, did not expand the scope of the application as originally noticed, and did not change the staff's original proposed no significant hazards consideration determination.

The Commission's related evaluation of the amendments is contained in a Safety Evaluation dated July 21, 2011.

No significant hazards consideration comments received: No.

Energy Northwest, Docket No. 50-397, Columbia Generating Station, Benton County, Washington

Date of application for amendment: July 22, 2010, as supplemented by letters dated September 27 and November 30, 2010, and March 31, 2011.

Brief description of amendment: The amendment approved the cyber security plan and associated implementation schedule, and revised Paragraph 2.E of Facility Operating License No. NPF-21 to provide a license condition to require the licensee to fully implement and maintain in effect all provisions of the NRC-approved Cyber Security Plan. The proposed change is consistent with Nuclear Energy Institute (NEI) 08-09, Revision 6, “Cyber Security Plan for Nuclear Power Reactors.”

Date of issuance: July 27, 2011.

Effective date: This license amendment is effective as of the date of its issuance. The implementation of the cyber security plan (CSP), including the key intermediate milestone dates and the full implementation date, shall be in accordance with the implementation schedule submitted by the licensee on March 31, 2011, and approved by the NRC staff with this license amendment. All subsequent changes to the NRC-approved CSP implementation schedule will require prior NRC approval pursuant to 10 CFR 50.90.

Amendment No.: 222.

Facility Operating License No. NPF-21: The amendment revised the Facility Operating License.

Date of initial notice in Federal Register: August 20, 2010 (75 FR 51492). The supplemental letters dated September 27 and November 30, 2010, and March 31, 2011, provided additional information that clarified the application, did not expand the scope of the application as originally noticed, and did not change the staff's original proposed no significant hazards consideration determination as published in the Federal Register.

The Commission's related evaluation of the amendment is contained in a Safety Evaluation dated July 27, 2011.

No significant hazards consideration comments received: No.

Entergy Nuclear Operations, Inc., Docket No. 50-255, Palisades Nuclear Plant, Van Buren County, Michigan

Date of application for amendment: July 20, 2010.

Brief description of amendment: The amendment revises Technical Specification (TS) 3.8.3, “Diesel Fuel, Lube Oil, and Starting Air,” by relocating the current stored diesel fuel oil and lube oil numerical volume requirements from TS to the TS Bases so that they may be modified under licensee control. The TS are modified so that the stored diesel fuel oil and lube oil inventory will require that a 7-day supply be available for either diesel generator. Condition A and Condition B in the Action table are revised and Surveillance Requirements (SR) 3.8.3.1 and 3.8.3.2 are revised to reflect the above change. The amendment also revises TS 3.8.3 by reducing the Completion Time for Condition C.

Date of issuance: July 26, 2011.

Effective date: As of the date of issuance and shall be implemented within 60 days of issuance.

Amendment No.: 242.

Facility Operating License No. DPR-20: Amendment revised the Technical Specifications.

Date of initial notice in Federal Register: December 14, 2010 (75 FR 77912).

The Commission's related evaluation of the amendment is contained in a Safety Evaluation dated July 26, 2011.

No significant hazards consideration comments received: No.

Entergy Nuclear Operations, Inc., Docket No. 50-293, Pilgrim Nuclear Power Station, Plymouth County, Massachusetts

Date of application for amendment: July 15, 2010, as supplemented by letters dated February 15, and April 4, 2011.

Brief description of amendment: The proposed amendment to the Facility Operating License (FOL) includes: (1) the proposed Pilgrim Nuclear Power Station (PNPS) Cyber Security Plan, (2) an implementation schedule, and (3) a proposed sentence to be added to the existing FOL Physical Protection license condition for PNPS requiring Entergy to fully implement and maintain in effect all provisions of the Commission-approved PNPS Cyber Security Plan as required by 10 CFR 73.54, “Protection of digital computer and communication systems and networks.” A Federal Register notice dated March 27, 2009, issued the final rule that amended 10 CFR part 73. The regulations in 10 CFR 73.54, establish the requirements for a Cyber Security Program. This regulation specifically requires each licensee currently licensed to operate a nuclear power plant under part 50 of this chapter to submit a cyber security plan that satisfies the requirements of the Rule. Each submittal must include a proposed implementation schedule and implementation of the licensee's Cyber Security Program must be consistent with the approved schedule. The background for this application is addressed by the NRC Notice of Availability, Federal Register Notice, Final Rule 10 CFR part 73, Power Reactor Security Requirements, published on March 27, 2009 (74 FR 13926).

Date of issuance: July 22, 2011.

Effective date: This license amendment is effective as of the date of its issuance. The implementation of the CSP, including the key intermediate milestone dates and the full implementation date, shall be in accordance with the implementation schedule submitted by the licensee on July 15, 2010, as supplemented by letters dated February 15 and April 4, 2011, and approved by the NRC staff with this license amendment. All subsequent changes to the NRC-approved CSP implementation schedule will require prior NRC approval pursuant to 10 CFR 50.90.

Amendment No.: 236.

Facility Operating License No. DPR-35: The amendment revised the License

Date of initial notice in Federal Register: August 20, 2010 (75 FR 51493).

The supplements dated February 15, and April 4, 2011, provided additional information that clarified the application, did not expand the scope of the application as originally noticed, and did not change the NRC staff's original proposed no significant hazards consideration determination as published in the Federal Register.

The Commission's related evaluation of the amendment is contained in a Safety Evaluation dated July 22, 2011.

No significant hazards consideration comments received: No.

Entergy Nuclear Vermont Yankee, LLC and Entergy Nuclear Operations, Inc., Docket No. 50-271, Vermont Yankee Nuclear Power Station, Vernon, Vermont

Date of application for amendment: July 16, 2010, as supplemented by letters dated February 15 and April 4, 2011.

Brief description of amendment: The amendment to the Renewed Facility Operating License (FOL) includes: (1) the Vermont Yankee Nuclear Power Station (VY) Cyber Security Plan (CSP), (2) an implementation schedule, and (3) a proposed sentence to be added to the existing FOL Physical Protection license condition for VY requiring Entergy to fully implement and maintain in effect all provisions of the Commission-approved VY CSP as required by Title 10 of the Code of Federal Regulations (10 CFR) 73.54 “Protection of digital computer and communication systems and networks.” A Federal Register notice dated March 27, 2009, issued the final rule that amended 10 CFR part 73. The regulations in 10 CFR 73.54 establish the requirements for a CSP. This regulation specifically requires each licensee currently licensed to operate a nuclear power plant under part 50 of this chapter to submit a CSP that satisfies the requirements of the Rule. Each submittal must include a proposed implementation schedule and implementation of the licensee's CSP must be consistent with the approved schedule. The background for this application is addressed by the NRC Notice of Availability, Federal Register Notice, Final Rule 10 CFR part 73, Power Reactor Security Requirements, published on March 27, 2009 (74 FR 13926).

Date of Issuance: July 20, 2011.

Effective date: This license amendment is effective as of the date of its issuance. The implementation of the CSP, including the key intermediate milestone dates and the full implementation date, shall be in accordance with the implementation schedule submitted by the licensee on July 16, 2010, as supplemented by letters dated February 15 and April 4, 2011, and approved by the NRC staff with this license amendment. All subsequent changes to the NRC-approved CSP implementation schedule will require prior NRC approval pursuant to 10 CFR 50.90.

Amendment No.: 247.

Renewed Facility Operating License No. DPR-28: The amendment revised the License.

Date of initial notice in Federal Register: August 20, 2010 (75 FR 51494).

The supplements dated February 15 and April 4, 2011, provided additional information that clarified the application, did not expand the scope of the application as originally noticed, and did not change the NRC staff's original proposed no significant hazards consideration determination as published in the Federal Register.

The Commission's related evaluation of this amendment is contained in a Safety Evaluation dated July 20, 2011.

No significant hazards consideration comments received: No.

Entergy Operations, Inc., Docket Nos. 50-313 and 50-368, Arkansas Nuclear One, Unit 1 and 2, Pope County, Arkansas

Date of amendment request: July 9, 2010, as supplemented by letters dated September 23 and November 30, 2010, and February 15 and April 1, 2011.

Brief description of amendment: The amendment approved the Arkansas Nuclear One, Units 1 and 2 cyber security plan and associated implementation schedule, and revised Paragraph 2.c.(4) of Renewed Facility Operating License No. DPR-51 for Unit 1 and Paragraph 2.D of Renewed Facility Operating License No. NPF-6 for Unit 2 to provide a license condition to require the licensee to fully implement and maintain in effect all provisions of the NRC-approved Cyber Security Plan. The change is consistent with Nuclear Energy Institute (NEI) 08-09, Revision 6, “Cyber Security Plan for Nuclear Power Reactors.”

Date of issuance: July 27, 2011.

Effective date: This license amendment is effective as of the date of its issuance. The implementation of the cyber security plan (CSP), including the key intermediate milestone dates and the full implementation date, shall be in accordance with the implementation schedule submitted by the licensee on April 1, 2011, and approved by the NRC staff with this license amendment. All subsequent changes to the NRC-approved CSP implementation schedule will require prior NRC approval pursuant to 10 CFR 50.90.

Amendment Nos.: Unit 1—244; Unit 2—294.

Renewed Facility Operating License Nos. DPR-51 and NPF-6: Amendment revised the operating licenses.

Date of initial notice in Federal Register: October 12, 2010 (75 FR 62597). The supplemental letters dated September 23 and November 30, 2010, and February 15 and April 1, 2011, provided additional information that clarified the application, did not expand the scope of the application as originally noticed, and did not change the NRC staff's original proposed no significant hazards consideration determination as published in the Federal Register.

The Commission's related evaluation of the amendment is contained in a Safety Evaluation dated July 27, 2011.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: July 22, 2010, as supplemented by letters dated September 23 and November 30, 2010, and February 15 and April 4, 2011.

Brief description of amendment: The amendment approved the cyber security plan and associated implementation schedule, and revised Paragraph 2.E of Facility Operating License No. NPF-29 to provide a license condition to require the licensee to fully implement and maintain in effect all provisions of the NRC-approved Cyber Security Plan. The proposed change is generally consistent with Nuclear Energy Institute (NEI) 08-09, Revision 6, “Cyber Security Plan for Nuclear Power Reactors.”

Date of issuance: July 27, 2011.

Effective date: This license amendment is effective as of the date of its issuance. The implementation of the cyber security plan (CSP), including the key intermediate milestone dates and the full implementation date, shall be in accordance with the implementation schedule submitted by the licensee on April 4, 2011, and approved by the NRC staff with this license amendment. All subsequent changes to the NRC-approved CSP implementation schedule will require prior NRC approval pursuant to 10 CFR 50.90.

Amendment No: 186.

Facility Operating License No. NPF-29: The amendment revises the Facility Operating License.

Date of initial notice in Federal Register: August 20, 2010 (75 FR 51494). The supplemental letters dated September 23 and November 30, 2010, and February 15 and April 4, 2011, provided additional information that clarified the application, did not expand the scope of the application as originally noticed, and did not change the staff's original proposed no significant hazards consideration determination as published in the Federal Register.

The Commission's related evaluation of the amendment is contained in a Safety Evaluation dated July 27, 2011.

No significant hazards consideration comments received: No.

Entergy Operations, Inc., Docket No. 50-382, Waterford Steam Electric Station, Unit 3, St. Charles Parish, Louisiana

Date of amendment request: July 15, 2010, as supplemented by letters dated September 27 and November 30, 2010, and February 15 and April 4, 2011.

Brief description of amendment: The amendment approved the cyber security plan and associated implementation schedule, and revised Paragraph 2.E of Facility Operating License No. NPF-38 to provide a license condition to require the licensee to fully implement and maintain in effect all provisions of the NRC-approved Cyber Security Plan. The proposed change is consistent with Nuclear Energy Institute (NEI) 08-09, Revision 6, “Cyber Security Plan for Nuclear Power Reactors.”

Date of issuance: July 20, 2011.

Effective date: This license amendment is effective as of the date of its issuance. The implementation of the cyber security plan (CSP), including the key intermediate milestone dates and the full implementation date, shall be in accordance with the implementation schedule submitted by the licensee on April 4, 2011, and approved by the NRC staff with this license amendment. All subsequent changes to the NRC-approved CSP implementation schedule will require prior NRC approval pursuant to 10 CFR 50.90.

Amendment No.: 234.

Facility Operating License No. NPF-38: The amendment revised the Facility Operating License.

Date of initial notice in Federal Register: October 12, 2010 (75 FR 62598). The supplemental letters dated September 27 and November 30, 2010, and February 15 and April 4, 2011, provided additional information that clarified the application, did not expand the scope of the application as originally noticed, and did not change the staff's original proposed no significant hazards consideration determination as published in the Federal Register.

The Commission's related evaluation of the amendment is contained in a Safety Evaluation dated July 20, 2011.

No significant hazards consideration comments received: No.

Exelon Generation Company, LLC, Docket Nos. 50-373 and 50-374, LaSalle County Station, Units 1 and 2, LaSalle County, Illinois

Date of application for amendments: January 6, 2010, as supplemented by letters dated August 20, October 14, and December 2, 2010, and February 7, 2011.

Brief description of amendments: The amendments changes paragraph 2.B.(5) of Facility Operating License (FOL) Nos. NFP-11 and NPF-18 for LaSalle County Station (LSCS), Units 1 and 2 which enable LSCS to possess and store byproduct material from Braidwood Station, Units 1 and 2, Byron Station, Units 1 and 2, and Clinton Power Station, Unit 1 in the LSCS Interim Radwaste Storage Facility.

Date of issuance: July 21, 2011.

Effective date: As of the date of issuance and shall be implemented within 30 days.

Amendment Nos.: 202/189.

Facility Operating License Nos. NPF-11 and NPF-18: The amendments revised paragraph 2.B.(5) of FOL Nos. NFP-11 and NPF-18.

Date of initial notice in Federal Register: July 21, 2010 (75 FR 42465). The August 20, October 14, and December 2, 2010, and February 7, 2011 supplements, contained clarifying information and did not change the Nuclear Regulatory Commission staff's initial proposed finding of no significant hazards consideration.

The Commission's related evaluation of the amendments is contained in a Safety Evaluation dated July 21, 2011.

No significant hazards consideration comments received: No.

Luminant Generation Company LLC, Docket Nos. 50-445 and 50-446, Comanche Peak Nuclear Power Plant, Unit 1 and 2, Somervell County, Texas

Date of amendment request: July 15, 2010, as supplemented by letters dated September 27 and November 30, 2010, and March 31, 2011.

Brief description of amendments: The amendments approved the cyber security plan and associated implementation schedule, and revised Paragraph 2.H of Facility Operating License Nos. NPF-87 and NPF-89 for Comanche Peak Nuclear Power Plant, Units 1 and 2, respectively, to provide a license condition to require the licensee to fully implement and maintain in effect all provisions of the NRC-approved Cyber Security Plan. The proposed change is consistent with Nuclear Energy Institute (NEI) 08-09, Revision 6, “Cyber Security Plan for Nuclear Power Reactors.”

Date of issuance: July 26, 2011.

Effective date: This license amendment is effective as of the date of its issuance. The implementation of the cyber security plan (CSP), including the key intermediate milestone dates and the full implementation date, shall be in accordance with the implementation schedule submitted by the licensee on March 31, 2011, and approved by the NRC staff with this license amendment. All subsequent changes to the NRC-approved CSP implementation schedule will require prior NRC approval pursuant to 10 CFR 50.90.

Amendment Nos.: Unit 1—155; Unit 2—155.

Facility Operating License Nos. NPF-87 and NPF-89: The amendments revised the Facility Operating Licenses.

Date of initial notice in Federal Register: October 12, 2010 (75 FR 62601). The supplemental letters dated September 27 and November 30, 2010, and March 31, 2011, provided additional information that clarified the application, did not expand the scope of the application as originally noticed, and did not change the staff's original proposed no significant hazards consideration determination as published in the Federal Register.

The Commission's related evaluation of the amendments is contained in a Safety Evaluation dated July 26, 2011.

No significant hazards consideration comments received: No.

Nebraska Public Power District, Docket No. 50-298, Cooper Nuclear Station, Nemaha County, Nebraska

Date of amendment request: July 20, 2010, as supplemented by letters dated September 27 and November 30, 2010, and March 30, 2011.

Brief description of amendment: The amendment approved the cyber security plan and associated implementation schedule, and revised Paragraph 2.C.(3) of Renewed Facility Operating License No. DPR-46 to provide a license condition to require the licensee to fully implement and maintain in effect all provisions of the NRC-approved Cyber Security Plan. The proposed change is consistent with Nuclear Energy Institute (NEI) 08-09, Revision 6, “Cyber Security Plan for Nuclear Power Reactors.”

Date of issuance: July 27, 2011.

Effective date: This license amendment is effective as of the date of its issuance. The implementation of the cyber security plan (CSP), including the key intermediate milestone dates and the full implementation date, shall be in accordance with the implementation schedule submitted by the licensee on March 30, 2011, and approved by the NRC staff with this license amendment. All subsequent changes to the NRC-approved CSP implementation schedule will require prior NRC approval pursuant to 10 CFR 50.90.

Amendment No.: 238.

Renewed Facility Operating License No. DPR-46: Amendment revised the Facility Operating License.

Date of initial notice in Federal Register: October 12, 2010 (75 FR 62602). The supplemental letters dated September 27 and November 30, 2010, and March 30, 2011, provided additional information that clarified the application, did not expand the scope of the application as originally noticed, and did not change the staff's original proposed no significant hazards consideration determination as published in the Federal Register.

The Commission's related evaluation of the amendment is contained in a Safety Evaluation dated July 27, 2011.

No significant hazards consideration comments received: No.

NextEra Energy Point Beach, LLC, Docket Nos. 50-266 and 50-301, Point Beach Nuclear Plant, Units 1 and 2, Town of Two Creeks, Manitowoc County, Wisconsin

Date of application for amendments: July 8, 2010, as supplemented by letters dated September 28, November 12, and November 23 of 2010, and March 31 and June 29 of 2011.

Brief description of amendments: The amendments approve the Cyber Security Plan (CSP) and associated implementation schedule, and adds a new License Condition D to the Renewed Facility Operating Licenses for Units 1 and 2. The amendments will specify that NextEra Energy Point Beach fully implement and maintain in effect all provisions of the Commission approved CSP as required by 10 CFR 73.54.

Date of issuance: July 21, 2011.

Effective date: This license amendment is effective as of the date of issuance. The implementation of the CSP, including the key intermediate milestone dates and the full implementation date, shall be in accordance with the implementation schedule submitted by the licensee on March 31, 2011, and approved by the NRC staff with this license amendment. All subsequent changes to the NRC-approved CSP implementation schedule will require prior NRC approval pursuant to 10 CFR 50.90.

Amendment Nos.: 243 (for Unit 1) and 247 (for Unit 2).

Renewed Facility Operating License Nos. DPR-24 and DPR-27: Amendments revised the Renewed Facility Operating License.

Date of initial notice in Federal Register: April 12, 2011 (76 FR 20380).

The supplements contained clarifying information and did not change the NRC staff's initial proposed finding of no significant hazards consideration.

The Commission's related evaluation of the amendments is contained in a Safety Evaluation dated July 21, 2011.

No significant hazards consideration comments received: No.

Omaha Public Power District, Docket No. 50-285, Fort Calhoun Station, Unit 1, Washington County, Nebraska

Date of amendment request: July 26, 2010, as supplemented by letters dated September 27 and November 30, 2010, and March 31 and April 8, 2011.

Brief description of amendment: The amendment approved the cyber security plan and associated implementation schedule, and revised Paragraph 3.C of Renewed Facility Operating License No. DPR-40 to provide a license condition to require the licensee to fully implement and maintain in effect all provisions of the NRC-approved Cyber Security Plan. The proposed change is consistent with Nuclear Energy Institute (NEI) 08-09, Revision 6, “Cyber Security Plan for Nuclear Power Reactors.”

Date of issuance: July 27, 2011.

Effective date: This license amendment is effective as of the date of its issuance. The implementation of the cyber security plan (CSP), including the key intermediate milestone dates and the full implementation date, shall be in accordance with the implementation schedule submitted by the licensee on April 8, 2011, and approved by the NRC staff with this license amendment. All subsequent changes to the NRC-approved CSP implementation schedule will require prior NRC approval pursuant to 10 CFR 50.90.

Amendment No.: 266.

Renewed Facility Operating License No. DPR-40: The amendment revised the operating license.

Date of initial notice in Federal Register: November 16, 2010 (75 FR 70035). The supplemental letters dated September 27 and November 30, 2010, and March 31 and April 8, 2011, provided additional information that clarified the application, did not expand the scope of the application as originally noticed, and did not change the staff's original proposed no significant hazards consideration determination as published in the Federal Register.

The Commission's related evaluation of the amendment is contained in a safety evaluation dated July 27, 2011.

No significant hazards consideration comments received: No.

Pacific Gas and Electric Company, Docket Nos. 50-275 and 50-323, Diablo Canyon Nuclear Power Plant, Unit 1 and 2, San Luis Obispo County, California

Date of application for amendments: July 22, 2010, as supplemented by letters dated August 19, September 29, and November 30, 2010, and February 8 and April 4, 2011.

Brief description of amendments: The amendments approved the cyber security plan and associated implementation schedule, and revised Paragraph 2.E of Facility Operating License Nos. DPR-80 and DPR-82 for Diablo Canyon Power Plant, Unit Nos. 1 and 2, respectively, to provide a license condition to require the licensee to fully implement and maintain in effect all provisions of the NRC-approved Cyber Security Plan. The proposed change is consistent with Nuclear Energy Institute (NEI) 08-09, Revision 6, “Cyber Security Plan for Nuclear Power Reactors.”

Date of issuance: July 15, 2011.

Effective date: This license amendment is effective as of the date of its issuance. The implementation of the cyber security plan (CSP), including the key intermediate milestone dates and the full implementation date, shall be in accordance with the implementation schedule submitted by the licensee on April 4, 2011, and approved by the NRC staff with this license amendment. All subsequent changes to the NRC-approved CSP implementation schedule will require prior NRC approval pursuant to 10 CFR 50.90.

Amendment Nos.: Unit 1—210; Unit 2—212.

Facility Operating License Nos. DPR-80 and DPR-82: The amendments revised the Facility Operating Licenses.

Date of initial notice in Federal Register: October 12, 2010 (75 FR 62605). The supplemental letters dated August 19, September 29, and November 30, 2010, and February 8 and April 4, 2011, provided additional information that clarified the application, did not expand the scope of the application as originally noticed, and did not change the staff's original proposed no significant hazards consideration determination as published in the Federal Register.

The Commission's related evaluation of the amendments is contained in a Safety Evaluation dated July 15, 2011.

No significant hazards consideration comments received: No.

PPL Susquehanna, LLC, Docket Nos. 50-387 and 50-388, Susquehanna Steam Electric Station, Units 1 and 2, Luzerne County, Pennsylvania

Date of application for amendments: July 22, 2010, as supplemented by letter dated April 4, 2011.

Brief description of amendments: The amendments to the Renewed Facility Operating Licenses (FOL) include: (1) the proposed SSES Units 1 and 2 Cyber Security Plan (CSP), (2) an implementation schedule, and (3) a proposed sentence to be added to the existing renewed FOL Physical Protection license condition for SSES Units 1 and 2 requiring PPL Susquehanna, LLC to fully implement and maintain in effect all provisions of the Commission-approved SSES Units 1 and 2 CSP as required by Title 10 of the Code of Federal Regulations (10 CFR) 73.54, “Protection of digital computer and communication systems and networks.” A Federal Register notice dated March 27, 2009, issued the final rule that amended 10 CFR part 73. The regulations in 10 CFR 73.54, establish the requirements for a CSP. This regulation specifically requires each licensee currently licensed to operate a nuclear power plant under part 50 of this chapter to submit a CSP that satisfies the requirements of the Rule. Each submittal must include a proposed implementation schedule and implementation of the licensee's CSP must be consistent with the approved schedule. The background for this application is addressed by the NRC Notice of Availability, Federal Register Notice, Final Rule 10 CFR part 73, Power Reactor Security Requirements, published on March 27, 2009 (74 FR 13926).

Date of issuance: July 21, 2011.

Effective date: These license amendments are effective as of the date of its issuance. The implementation of the CSP, including the key intermediate milestone dates and the full implementation date, shall be in accordance with the implementation schedule submitted by the licensee on July 22, 2010, as supplemented by letter dated April 4, 2011, and approved by the NRC staff with these license amendments. All subsequent changes to the NRC-approved CSP implementation schedule will require prior NRC approval pursuant to 10 CFR 50.90.

Amendment Nos.: 255 for Unit 1 and 235 for Unit 2.

Facility Operating License Nos. NPF-14 and NPF-22: The amendments revised the license.

Date of initial notice in Federal Register: October 12, 2010, 75 FR 62606.

The supplement dated April 4, 2011, provided additional information that clarified the application, did not expand the scope of the application as originally noticed, and did not change the NRC staff's original proposed no significant hazards consideration determination as published in the Federal Register.

The Commission's related evaluation of the amendments is contained in a Safety Evaluation dated July 21, 2011.

No significant hazards consideration comments received: No.

Southern Nuclear Operating Company, Inc., Docket Nos. 50-348 and 50-364, Joseph M. Farley Nuclear Plant, Units 1 and 2, Houston County, Alabama

Date of amendment request: October 29, 2010, as supplemented on February 21, 2011.

Brief description of amendment request: The amendments revise the Technical Specifications (TSs) to reflect the adoption of the Nuclear Regulatory Commission-approved TS Task Force (TSTF) traveler TSTF-425, Revision 3, “Relocate Surveillance Frequencies to Licensee Control—RITSTF [Risk-Informed TSTF] Initiative 5b.”

Date of issuance: July 18, 2011.

Effective date: As of the date of issuance and shall be implemented within 120 days.

Amendment Nos: 185 and 180

Facility Operating License Nos. NPF-2 and NPF-8: The amendments changed the licenses and the technical specifications.

Date of initial notice in Federal Register: December 14, 2010 (75 FR 77915).

The Commission's related evaluation of the amendments is contained in a Safety Evaluation dated July 18, 2011.

No significant hazards consideration comments received: No.

STP Nuclear Operating Company, Docket Nos. 50-498 and 50-499, South Texas Project, Units 1 and 2, Matagorda County, Texas

Date of amendment request: July 27, 2010, as supplemented by letters dated September 23 and November 30, 2010, and April 4, April 28, May 18, and June 28, 2011.

Brief description of amendments: The amendments approved the cyber security plan and associated implementation schedule, and revised Paragraph 2.F of Facility Operating License Nos. NPF-76 and NPF-80 for South Texas Project, Units 1 and 2, respectively, to provide a license condition to require the licensee to fully implement and maintain in effect all provisions of the NRC-approved Cyber Security Plan. The proposed change is generally consistent with Nuclear Energy Institute (NEI) 08-09, Revision 6, “Cyber Security Plan for Nuclear Power Reactors.”

Date of issuance: July 26, 2011.

Effective date: This license amendment is effective as of the date of its issuance. The implementation of the cyber security plan (CSP), including the key intermediate milestone dates and the full implementation date, shall be in accordance with the implementation schedule submitted by the licensee on June 28, 2011, and approved by the NRC staff with this license amendment. All subsequent changes to the NRC-approved CSP implementation schedule will require prior NRC approval pursuant to 10 CFR 50.90.

Amendment Nos.: Unit 1—197; Unit 2—185.

Facility Operating License Nos. NPF-76 and NPF-80: The amendments revised the Facility Operating Licenses.

Date of initial notice in Federal Register: November 9, 2010 (75 FR 68837). The supplemental letters dated September 23 and November 30, 2010, and April 4, April 28, May 18, and June 28, 2011, provided additional information that clarified the application, did not expand the scope of the application as originally noticed, and did not change the staff's original proposed no significant hazards consideration determination as published in the Federal Register.

The Commission's related evaluation of the amendments is contained in a Safety Evaluation dated July 26, 2011.

No significant hazards consideration comments received: No.

Wolf Creek Nuclear Operating Corporation, Docket No. 50-482, Wolf Creek Generating Station, Coffey County, Kansas

Date of amendment request: July 19, 2010, as supplemented by letters dated September 24 and November 24, 2010, and January 20, April 1, and April 14, 2011.

Brief description of amendment: The amendment approved the cyber security plan (CSP) and associated implementation schedule, and revised Paragraph 2.E of Renewed Facility Operating License No. NPF-42 to provide a license condition to require the licensee to fully implement and maintain in effect all provisions of the NRC-approved Cyber Security Plan. The proposed change is consistent with Nuclear Energy Institute (NEI) 08-09, Revision 6, “Cyber Security Plan for Nuclear Power Reactors.”

Date of issuance: July 27, 2011.

Effective date: This license amendment is effective as of the date of its issuance. The implementation of the CSP, including the key intermediate milestone dates and the full implementation date, shall be in accordance with the implementation schedule submitted by the licensee on April 1, 2011, and approved by the NRC staff with this license amendment. All subsequent changes to the NRC-approved CSP implementation schedule will require prior NRC approval pursuant to 10 CFR 50.90.

Amendment No.: 197.

Renewed Facility Operating License No. NPF-42. The amendment revised the Operating License.

Date of initial notice in Federal Register: October 12, 2010 (75 FR 62607). The supplemental letters dated September 24 and November 24, 2010, and January 20, April 1, and April 14, 2011, provided additional information that clarified the application, did not expand the scope of the application as originally noticed, and did not change the staff's original proposed no significant hazards consideration determination as published in the Federal Register.

The Commission's related evaluation of the amendment is contained in a Safety Evaluation dated July 27, 2011.

No significant hazards consideration comments received: No.

Dated at Rockville, Maryland this 28th day of July 2011.
For the Nuclear Regulatory Commission.
Louise Lund,
Deputy Director, Division of Operating Reactor Licensing, Office of Nuclear Reactor Regulation.

[FR Doc. 2011-19775 Filed 8-8-11; 8:45 am]

BILLING CODE 7590-01-P